DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending September 30, 2005.

Last name | First name | Middle name/initials
Berends | Rudolf
Berends | Julie | M.
Hinder | Patricia | Isabelle
Rosencrantz | Henrik
Chun | Ki | Hoon
Yoda | Aki
Gritti | Yvonne | Milliquet
Gritti | Otto | H.
Park | Gregory | Kyu-In
Green | Doreen | J.
Gren | Philip | A.
Labrosse | Guy
Wong | Arthur | Lt
Bertrand-Cadi | Nadia
Bertrand-Cadi | Jacques
Man | Guy
Anderson | Cynthia | B.
Rosencrantz | Anna | Maria
Palmer | Shannon
Santucci | Babette | Eudora
Taylor | Alan
Labrosse | Lucille
Asakura | Toshiko
Robinson | William | John
Robinson | Elizabeth | Barbara
Asakura | Hisaya
Ferris | Anne
Ferris | Malcolm
Surana | Seema
Surana | Naresh
Marcusland | Steen | A.
Kadoorie | Bettina | Muriel
Wong | Hugh | Shui-Tong
Moore | Joan | A.
Cho | Sarai | Haesun
Ng | Wai | Hong
Faiella | Graham | Bonbright
MacKenzie | Betty | Joan
Skaugen | Grace | M.R.
Lalvani | Divia
Katz | Gisela
Kohn | Erwin
Lue | Eva | Ng.
Mathot | Dirkie
Mathot | Henricus | M.
Zulliger | Ann | C.
Chen | Jiunn Nan
Zhang | Samuel | X.
Boyd III | Robert | James
Zbinden | Caroline | Sarah
Colley | Siani | Wynne
Hirzel | Gabriel | Adrian
Kim | Sonia
McGinnes | Nicholas | James
Schluter | Philip | Michael
Bisang | Caroline | Barbara
Hinder | Patricia | Isabelle
Ng | Jennifer | Jeng Ming
Christensen | Eva | Elise
Smith | Bernice | Emma
Wong | Kwun | Hung Kevin
Reese | Steven | F.
Goldin | Valerie | Roma
Kim | Ann | Joon Heh
Wilfred | Harmon | Lynn
Quek | Zhi | Qiang Jonathan
Barnes | Elvia
Colen | Kristie | Anja
Godduhn | Helen | Marta
Vucko | Angela | Christine
Schmidlin | Colette | F.
Saito | Haruka
Sutanto | Ernest | Julian
Park | Gregory | Kyu-in
Lee | Kyou | Sook
Cho | Sarai | Haesun
Chun | Ki | Hoon
Atkinson (Choe) | Tok | Hui
Cho | Hannah
Chung | Linda | Eunha
Choi | Bluelle | Soungah
Haugereid | Sarita | Alice
Graetz | Connie | Charlotte
Henderson | Cary | Lee
Renn-Pinger | Caroline
Mayer | Jacqueline | Genofeva
Von Lieres Und Wilkau | Gero | Constantin
Faria | Kirsten | Elisabeth
Lough | Masako
Dixon | Mark | Todd
Nemyer | Angelique | Justine
Csont | Istvan
Rodriguez | David | R.
Graetz | Galleon | Tell Samuel
Juergen De Laczkovich | Antonio | Bela
Farrell | Frank
Schubiger | Marianne | Stuck
Harris | Karl | Anthony
Moog | Sylvia
Karrer | Julian | Marc Paul
Viehoever | Gabriele
Parzych | Norman | Russell
Welzig-Czaika | Marion
Stark | Paul | Garry
Park | Desiree | U.P.
Scheitlin | Oscar | W.
Esposito | Fabio | Bruno
Miller | Jonathan | Harper
Recaldin | David
Handlery | George | De Poor
Burki | Tariq | K.
Gerstle | Margreth | A.
Hsu | Paul
Voinov | Carol | Bartman
Curteman | Robert | William
Anderson | Cynthia | B.
Meijer | Pieter | Jeroen
Ohlander | Stephen | Paul
Tasca | Elia | Henry
Cajar Jr | Adsinar | Ribstell
Yoda | Aki
Metro | Adeline | M.
Baxandall | Michael | David Kighley
Metro | Thierry | E.
Faiella | Graham | E.
Lester-Smith | Shelagh

Dated: October 22, 2005.
Angie Kaminski,
Examinations Operations, Philadelphia Compliance Services.

[FR Doc. 05-22417 Filed 11-9-05; 8:45 am]

BILLING CODE 4830-01-P